DEPARTMENT OF HOUSING AND URBAN DEVELOPMENT

[Docket No. FR-5858-N-04]

Announcement of the Housing Counseling Federal Advisory Committee Notice of Public Meeting

AGENCY: Office of the Assistant Secretary for Housing—Federal Housing Commissioner, Department of Housing and Urban Development (HUD).

ACTION: Notice of Housing Counseling Federal Advisory Committee (HCFAC) public meeting.

SUMMARY: This gives notice of a Housing Counseling Federal Advisory Committee (HCFAC) meeting on Wednesday, February 8, 2017, via conference phone, and the proposed agenda. The meeting is open to the public and is accessible to individuals with disabilities.

DATES: The meeting will be held on Wednesday, February 8, 2017 from 12:00 p.m. to 2:00 p.m. Eastern Daylight Time (EDT) via conference phone.

FOR FURTHER INFORMATION CONTACT: Marjorie George, Housing Program Technical Specialist, Office of Housing Counseling, U.S. Department of Housing and Urban Development, 200 Jefferson Avenue, Suite 300, Memphis, TN 38103; telephone number (901) 544-4228 (this is not a toll-free number). Persons who have difficulty hearing or speaking may access this number via TTY by calling the toll-free Federal Relay Service at (800) 877-8339. Individuals may also email HCFACCommittee@hud.gov.

SUPPLEMENTARY INFORMATION: HUD is convening the meeting of the HCFAC on Wednesday, February 8, 2017 from 12:00 p.m. to 2:00 p.m. The meeting will be held via conference phone. This meeting notice is provided in accordance with the Federal Advisory Committee Act, 5. U.S.C. App. 10(a)(2).

Agenda—Housing Counseling Federal Advisory Committee Meeting—February 8, 2017

I. Approval of November 1, 2016 Meeting Minutes

II. Confirmation of HCFAC Objectives

III. Presentations by Creative Marketing Resource

IV. Review of Quality Housing Counseling

V. Planning for Future HCFAC Meetings

VI. Next Steps

VII. Adjourn

With advance registration, the public is invited to attend this meeting via teleconference. To register for this meeting please access the below link: http://www.hud.gov/emarc/index.cfm?fuseaction=emar.registerEvent&eventId=2974&update=N.

The toll-free call-in number will be provided once registration is confirmed. Persons with hearing impairments may also follow the discussion by first calling the Federal Relay Service (FRS): (800) 977-8339 and providing the FRS operator with the conference call toll-free number, which will be provided upon registration.

Records and documents discussed during the meeting, as well as other information about the work of this Committee, will be available for public viewing as they become available at: http://www.facadatabase.gov/committee/committee.;aspx?cid=2492&aid=77 by clicking on the “Committee Meetings” link.

Dated: January 11, 2017.
Edward L. Golding,
Principal Deputy Assistant Secretary, Office of Housing/Federal Housing Administration.

[FR Doc. 2017-01248 Filed 1-18-17; 8:45 am]

BILLING CODE 4210-67-P